DEPARTMENT OF TRANSPORTATION

Federal Aviation Administration

14 CFR Part 39

[Docket No. 99-CE-85-AD; Amendment 39-12917; AD 2002-21-11]

RIN 2120-AA64

Airworthiness Directives; EXTRA Flugzeugbau GmbH Model EA-300S Airplanes

AGENCY: Federal Aviation Administration, DOT.

ACTION: Final rule.

SUMMARY: This amendment adopts a new airworthiness directive (AD) that applies to certain EXTRA Flugzeugbau GmbH (EXTRA) Model EA-300S airplanes. This AD requires you (for all affected airplanes) to inspect the upper longeron at the horizontal stabilizer attachment for cracks using a fluorescent dye check penetrant method, repair any cracks found, and modify the horizontal stabilizer. This AD also requires a limit on operation to the Normal category until accomplishment of the initial inspection and modification on airplanes with less than 200 hours time-in-service (TIS). This AD is the result of reports of fatigue cracks at the horizontal stabilizer attachment on the affected airplanes. The actions specified by this AD are intended to detect and correct cracks in the horizontal stabilizer attachment, which could result in structural failure of the aft fuselage with consequent loss of control of the airplane.

DATES: This AD becomes effective on December 17, 2002.

The Director of the Federal Register approved the incorporation by reference of certain publications listed in the regulations as of December 17, 2002.

ADDRESSES: You may get the service information referenced in this AD from EXTRA Flugzeugbau GmbH, Flugplatz Dinslaken, D-46569 Hunxe, Federal Republic of Germany; telephone: (0 28 58) 91 37-00; facsimile: (0 28 58) 91 37-30. You may view this information at the Federal Aviation Administration (FAA), Central Region, Office of the Regional Counsel, Attention: Rules Docket No. 99-CE-85-AD, 901 Locust, Room 506, Kansas City, Missouri 64106; or at the Office of the Federal Register, 800 North Capitol Street, NW, suite 700, Washington, DC.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What Events Have Caused This AD?

On October 17, 1997, FAA issued a Special Airworthiness Information Bulletin (SAIB) to recommend an inspection of the horizontal stabilizer attachment on EXTRA Models EA-300, EA-300L, and EA-300S airplanes. The SAIB recommended compliance with EXTRA Service Bulletin SB-300-2-95.

The Luftfahrt-Bundesamt (LBA), which is the airworthiness authority for Germany, did not consider the actions of the service bulletin mandatory and consequently did not issue an AD against airplanes on the German register. The FAA also did not issue an AD at this time because the service history did not warrant such action.

Since that time, FAA has received information that indicates fatigue cracks at the horizontal stabilizer attachment are occurring on the above-referenced airplanes. These airplanes are utilized in aerobatic maneuvers and the stress in the area of the horizontal stabilizer can lead to cracks in this area, as well as in the upper longerons and diagonal braces.

What Is the Potential Impact If FAA Took No Action?

This condition, if not corrected, could lead to structural failure of the aft fuselage with consequent loss of control of the airplane.

Has FAA Taken Any Action to This Point?

We issued a proposal to amend part 39 of the Federal Aviation Regulations (14 CFR part 39) to include an AD that would apply to certain EXTRA Models EA-300, EA-300L, and EA-300S airplanes. This proposal was published in the Federal Register as a notice of proposed rulemaking (NPRM) on September 26, 2001 (66 FR 49148). The NPRM proposed to require:

—For all affected airplanes: an inspection of the upper longeron at the horizontal stabilizer attachment for cracks using a fluorescent dye check penetrant method, repair of any cracks found, and modification of the horizontal stabilizer; and

—On airplanes with less than 200 hours time-in-service (TIS) as of the effective date of the proposed AD: a limit on operation to the Normal category until accomplishment of the initial inspection and modification.

Was the Public Invited To Comment?

The FAA encouraged interested persons to participate in the making of this amendment. One person responded. The following presents the comments received on the proposal from this person and FAA's response to each comment:

Comment Issue No. 1: There Is No Justification for an AD

What Is the Commenter's Concern?

The commenter states that FAA has no justification for issuing the proposed AD. These concerns include:

1. The service bulletin adequately addresses the problem.

2. The manufacturer was unaware of FAA's intent to propose an AD.

3. The LBA never even considered issuing an AD.

4. The accident Model EA-300S airplane was used for competition and was operated outside the design envelope.

We infer that the commenter wants the NPRM withdrawn.

What Is FAA's Response to the Concern?

We do not concur that the NPRM should be withdrawn. The following addresses each of the issues specified above:

1. The only way FAA can enforce the actions of a service bulletin on airplanes registered for operation in the United States is by issuing an AD.

2. We notified the LBA, which is the airworthiness authority for Germany (the State of Design of the affected airplanes), of our intent to issue an AD. This is in accordance with the bilateral agreement between the United States and Germany.

3. According to our correspondence, the LBA believed that this condition was only isolated to those aircraft in the United States, and thus LBA was not planning on initiating AD action.

4. We agree that the correct use of an AD is not to address a structural failure when the airplanes are flown outside of their certificated limits. However, we are not aware of any crew statements or other information that the failures of the aft fuselage structure were due to airplanes flying outside the design envelope.

We are not changing the final rule AD action as a result of these comments.

Comment Issue No. 2: Remove the Models EA-300 and EA-300L From the Applicability of the AD

What Is the Commenter's Concern?

The commenter states that we have not shown how the condition on the Model EA-300S airplanes is likely to exist or develop on the Models EA-300 and EA-300L airplanes. The commenter points out that no service history exists on fatigue failure of the aft fuselage structure for the Models EA-300 and EA-300L airplanes. The commenter also states that EXTRA has said that only the Model EA-300S airplanes are conducive to this condition.

What Is FAA's Response to the Concern?

We concur that no service history exists on the fatigue failures of the aft fuselage structure for the Models EA-300 and EA-300L airplanes. While EXTRA may have made statements that only the Model EA-300S airplanes were affected by this condition, EXTRA has included the Models EA-300 and EA-300L airplanes in every service bulletin revision level related to this subject.

We have re-evaluated all information related to this subject and have decided to only apply the AD to the Model EA-300S airplanes. We will continue to monitor this subject on the Models EA-300 and EA-300L airplanes and may implement future rulemaking action if necessary.

We are changing the final rule AD action so that only the Model EA-300S airplanes are contained in the Applicability.

Comment Issue No. 3: Cost Estimate is Too Low

What Is the Commenter's Concern?

The commenter states that we underestimated the cost impact that the proposed AD would have upon the public. The commenter estimates that the proposed AD costs three times more than what we estimated, but the commenter does not provide any specific labor and parts costs.

What Is FAA's Response to the Concern?

Due to the unavailability of cost information on this subject, we estimated the labor and parts cost to accomplish the inspection and any repairs. As in any aircraft modification or repair, there is chance of variation in cost estimates from airplane to airplane.

We have determined that our cost estimate is as accurate as possible at this time. No substantiating information was presented to show that it is in error. Therefore, we are not changing the final rule as a result of this comment.

FAA's Determination

What Is FAA's Final Determination on this Issue?

After careful review of all available information related to the subject presented above, we have determined that air safety and the public interest require the adoption of the rule as proposed except for removing the Models EA-300 and EA-300L airplanes from the Applicability and minor editorial corrections. We have determined that this removal and the minor corrections:

—Provide the intent that was proposed in the NPRM for correcting the unsafe condition; and

—Do not add any additional burden upon the public than was already proposed in the NPRM.

Cost Impact

How Many Airplanes Does This AD Impact?

We estimate that this AD affects 21 airplanes in the U.S. registry.

What Is the Cost Impact of This AD on Owners/Operators of the Affected Airplanes?

We estimate the following costs to accomplish the inspection:

Labor cost | Parts cost | Total cost per airplane | Total cost on U.S. operators
24 workhours × $60 per hour = $1,440 | Not applicable | $1,440 | $1,440 × 21 = $30,240.

We estimate the following costs to accomplish any necessary repair or replacement that will be required based on the results of the inspection. We have no way of determining the number of airplanes that may need such repair or replacement:

Labor cost | Parts cost | Total cost per airplane
40 workhours × $60 per hour = $2,400 | Parts provided at no cost | $2,400 per airplane.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-21-11 Extra Flugzeugbau GmbH: Amendment 39-12917; Docket No. 99-CE-85-AD.

(a) What airplanes are affected by this AD? This AD affects Model EA-300S airplanes, serial numbers 1 through 29, that are certificated in any category.

(b) Who must comply with this AD? Anyone who wishes to operate any of the above airplanes must comply with this AD.

(c) What problem does this AD address? The actions specified by this AD are intended to detect and correct cracks in the horizontal stabilizer attachment, which could result in structural failure of the aft fuselage with consequent loss of control of the airplane.

(d) What actions must I accomplish to address this problem? To address this problem, you must accomplish the following:

Actions | Compliance | Procedures
(1) For all affected airplanes, inspect, using a fluorescent dye penetrant method, the upper longeron at the horizontal stabilizer attachment for cracks in the areas depicted in Figure 1 of this AD. | Upon accumulating 250 hours time-in-service (TIS) or within the next 50 hours TIS after December 17, 2002 (the effective date of this AD), whichever occurs later. | In accordance with Part I of Extra Service Bulletin No. 300-2-95 (pages 2-6 at Issue: C, dated July 15, 1998; and pages 1 and 7 through 11 at Issue: D, dated January 30, 2001). No further action is required by this paragraph if the modification is already accomplished in accordance with Part II of Extra Service Bulletin No. 300-2-95 (all pages at Issue: C, dated July 15, stabilizer 1998).
(2) For all affected airplanes, if no crack(s) is (are) found during the inspection required by this AD, modify the upper longeron at the horizontal stabilizer attachment. | Prior to further flight after the inspection required by paragraph (d)(1) of this AD. | In accordance with Part II of Extra Service Bulletin No. 300-2-95 (pages 2-6 at Issue: C, dated July 15, 1998; and pages 1 and 7 through 11 at Issue: D, dated January 30, 2001). No further action is required by this paragraph if already accomplished in accordance with Part II of Extra Service Bulletin No. 300-2-95 (all pages at Issue: C, dated July 15, 1998).
(3) For all affected airplanes, if any crack is found during the inspection required by this AD and the cracks(s) is (are) in Area A or Area B as depicted in Figure 1 of this AD, accomplish the following: (i) Repair and modify the upper longeron at the horizontal stabilizer attachment; and (ii) Weld the cracks tight during repair. | Prior to further flight after the inspection where any crack is found in Area A or Area B as depicted in Figure 1 of this AD. | In accordance with Part II of Extra Service Bulletin No. 300-2-95, Issue: D, dated January 30, 2001. No further action is required by this paragraph if already accomplished in accordance with Part II of Extra Service Bulletin No. 300-2-95 (all pages at Issue: C, dated July 15, 1998).
(4) For all affected airplanes, if any crack is found during the inspection and the crack(s) is (are) in Area C as depicted in Figure 1 of this AD, accomplish the following: (i) Obtain a repair scheme from the manufacturer; (ii) Incorporate this repair scheme; and (iii) Accomplish any follow-up actions as directed by the FAA. | Prior to further flight after the inspection where any crack is found. | In accordance with a repair scheme obtained from EXTRA Flugzeugbau GmbH, Flugplatz Dinslaken, D-46569 Hünxe, Federal Republic of Germany; telephone: (0 28 58) 91 37-00; facsimile: (0 28 58) 91 37-30. Obtain this repair scheme through the FAA at the address specified in paragraph (g) of this AD.
(5) For airplanes with less than 200 hours TIS as of the effective date of this AD, limit operation to the Normal category by accomplishing the following: (i) Fabricate two placards using letters of at least ⅒-inch in height consisting of the following words: “OPERATIONS LIMITED TO NORMAL CATEGORY”; (ii) Install these placards on the airplane instrument panels (one on the front panel and one on the rear panel) next to the airspeed indicators within the pilot's clear view; and (iii) Insert a copy of this AD into the Limitations Section of the Airplane Flight Manual (AFM). | Within the next 50 hours TIS after December 17, 2002 (the effective date of this AD), until the inspection and the modification required by this AD are accomplished | Not Applicable.
(6) The owner/operator holding at least a private pilot certificate as authorized by section 43.7 of the Federal Aviation Regulations (14 CFR 43.7) may fabricate and install the placard as required by paragraphs (d)(5)(i) and (d)(5)(ii) of this AD and insert this AD into the Limitations Section of the AFM as required by paragraph (d)(5)(iii) of this AD. | Within the next 50 hours TIS after December 17, 2002 (the effective date of this AD), until the first inspection and the modification required by this AD are accomplished. | Make an entry into the aircraft records showing compliance with this AD in accordance with section 43.9 of the Federal Aviation Regulations (14 CFR 43.9).
(7) For all affected Model EA-300S airplanes, modify the fuselage frame underneath the stabilizer attachment. | Within the next 200 hours TIS after December 17, 2002 (the effective date of this AD). | In accordance with Part III of Extra Service Bulletin No. 300-2-95 (pages 2-6 at Issue: C, dated July 15, 1998; and pages 1 and 7 through 11 at Issue: D, dated January 30, 2001).
(8) For all affected airplanes with less than 200 hours TIS as of the effective date of this AD, the inspection, modification, and repair, as necessary (as specified in paragraphs (d)(1) through (d)(4) of this AD) may be accomplished instead of the operational limitations of paragraph (d)(5) of this AD. | At any time, but it must be accomplished upon accumulating 250 hours TIS or within the next 50 hours TIS after December 17, 2002 (the effective date of this AD), whichever occurs later. | Inspect in accordance with Figure 1 of this AD and Part I of Extra Service Bulletin No. 300-2-95 (pages 2-6 at Issue: C, dated July 15, 1998; and pages 1 and 7 through 11 at Issue: D, dated January 30, 2001). Modify in accordance with Part II of the service bulletin. Repair in accordance with the service bulletin or a repair scheme obtained manufacturer, as applicable.

(e) Where can I find Figure 1 of this AD? Figure 1 of this AD, as referenced in paragraphs (d)(3), (d)(4), and (d)(8) of this AD, follows:

BILLING CODE 4910-13-P

BILLING CODE 4910-13-C

(f) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note : This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if you have not eliminated the unsafe condition, specific actions you propose to address it.

(g) Where can I get information about any already-approved alternative methods of compliance? Contact Karl Schletzbaum, Aerospace Engineer, FAA, Small Airplane Directorate, 901 Locust, Room 301, Kansas City, Missouri 64106; telephone: (816) 329-4146; facsimile: (816) 329-4090.

(h) What if I need to fly the airplane to another location to comply with this AD? The FAA can issue a special flight permit under sections 21.197 and 21.199 of the Federal Aviation Regulations (14 CFR 21.197 and 21.199) to operate your airplane to a location where you can accomplish the requirements of this AD.

(i) Are any service bulletins incorporated into this AD by reference? Actions required by this AD must be done in accordance with Extra Flugzeugbau GmbH Service Bulletin No. SB-300-2-95 (pages 2-6 at Issue: C, dated July 15, 1998; and pages 1 and 7 through 11 at Issue: D, dated January 30, 2001). The Director of the Federal Register approved this incorporation by reference under 5 U.S.C. 552(a) and 1 CFR part 51. You can get copies from EXTRA Flugzeugbau GmbH, Flugplatz Dinslaken, D-46569 Hünxe, Federal Republic of Germany. You can look at copies at the FAA, Central Region, Office of the Regional Counsel, 901 Locust, Room 506, Kansas City, Missouri, or at the Office of the Federal Register, 800 North Capitol Street, NW, suite 700, Washington, DC.

(j) When does this amendment become effective? This amendment becomes effective on December 17, 2002.

Issued in Kansas City, Missouri, on October 11, 2002.
Dorenda D. Baker,
Acting Manager, Small Airplane Directorate, Aircraft Certification Service.

[FR Doc. 02-26660 Filed 10-24-02; 8:45 am]

BILLING CODE 4910-13-P